DEPARTMENT OF COMMERCE

International Trade Administration

Proposed Information Collection; Comment Request; Certified Trade Mission Program Application

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 14, 2009.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Susan Crawford, phone 202-482-2050, Susan.Crawford@mail.doc.gov, fax 202-482-2599.

SUPPLEMENTARY INFORMATION:

I. Abstract

Certified Trade Missions are international trade events that have been accepted into the U.S. Department of Commerce's (DOC) trade promotion events program. Certified Trade Missions can be planned, organized and led by both Federal and non-Federal government export promotion agencies such as industry trade associations, State and local government agencies, Congressional representatives, chambers of commerce, regional groups and other export-oriented groups.

The Certified Trade Mission Program Application form is the vehicle by which individual mission organizers apply, and if accepted agree, to participate in the DOC's trade promotion events program, recruit U.S. companies, identify the products or services they intend to sell or promote, and report on results. The collection of information is required for DOC to properly assess the credentials of the missions and applicants.

II. Method of Collection

The Certified Trade Mission Program Application is e-mailed by request to U.S. export-oriented organizations seeking DOC certification of their trade mission. Applicant firms complete the form and return it via e-mail to DOC.

III. Data

OMB Control Number: 0625-0215.

Form Number(s): ITA-4127P.

Type of Review: Regular submission.

Affected Public: Mission organizers (business or for-profit organizations, not-for-profit institutions) applying to participate in trade missions facilitated but not led by DOC officials.

Estimated Number of Respondents: 60.

Estimated Time per Response: 1 hour.

Estimated Total Annual Burden Hours: 60.

Estimated Total Annual Cost to Public: $2,100.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 7, 2009.
Gwellnar Banks,
Management Analyst, Office of the Chief Information Officer.

[FR Doc. E9-24513 Filed 10-9-09; 8:45 am]

BILLING CODE 3510-FP-P